DEPARTMENT OF DEFENSE

Department of the Navy

Notice of Intent To Prepare an Environmental Impact Statement for EA-18G Growler Airfield Operations at Naval Air Station Whidbey Island, Washington and To Announce Public Scoping Meetings

AGENCY: Department of the Navy, DoD.

ACTION: Notice.

SUMMARY: Pursuant to Section 102(2)(c) of the National Environmental Policy Act (NEPA) of 1969, as implemented by the Council on Environmental Quality regulations (40 Code of Federal Regulations parts 1500-1508), the Department of the Navy (DoN) announces its intent to prepare an Environmental Impact Statement (EIS) for EA-18G Growler airfield operations at Naval Air Station (NAS) Whidbey Island, Washington. The EIS will evaluate the potential environmental effects associated with the introduction of two additional EA-18G Growler expeditionary squadrons (10 aircraft) and the addition of three EA-18G Growler aircraft to the Fleet Replacement Squadron (FRS) when added to baseline conditions, including ongoing EA-18G Growler airfield operations, at NAS Whidbey Island's Ault Field and Outlying Landing Field (OLF) Coupeville.

DATES: Dates and Addresses: Three open house information sessions will be held between 4:00 p.m. and 8:00 p.m. on:

1. Tuesday, December 3, 2013, at Coupeville High School Commons Area, 501 South Main Street, Coupeville, Washington 98239.

2. Wednesday, December 4, 2013, at Oak Harbor High School Student Union Building, 1 Wildcat Way, Oak Harbor, Washington 98277.

3. Thursday, December 5, 2013, at Anacortes Middle School Cafeteria, 2202 M Avenue, Anacortes, Washington 98221.

Each of the three open house information sessions will be informal and consist of information stations staffed by DoN representatives.

FOR FURTHER INFORMATION CONTACT: EA-18G EIS Project Manager (Code EV21/SS); Naval Facilities Engineering Command (NAVFAC) Atlantic, 6506 Hampton Boulevard, Norfolk, Virginia 23508.

SUPPLEMENTARY INFORMATION: NAS Whidbey Island is the home of all Navy tactical electronic attack (VAQ) squadrons flying the EA-6B Prowler and EA-18G Growler. In 2005 and 2012, the DoN prepared environmental analyses pursuant to NEPA for the replacement of the EA-6B Prowler aircraft with the newer EA-18G Growler aircraft at NAS Whidbey Island. The 2005 Environmental Assessment (EA) evaluated the environmental consequences of transitioning fleet squadrons and the FRS from the EA-6B to the EA-18G aircraft. The 2012 EA evaluated the environmental consequences of retaining and transitioning the three expeditionary squadrons currently home based at NAS Whidbey Island from EA-6B to EA-18G aircraft and the relocation of a reserve expeditionary squadron from Joint Base Andrews, Maryland.

To meet current and future requirements, the DoN proposes to: (1) Continue and increase the existing VAQ airfield operations at NAS Whidbey Island complex, which includes Ault Field and OLF Coupeville; (2) Add two new Expeditionary VAQ squadrons (10 additional aircraft) and augment the VAQ FRS (3 additional aircraft) to support an expanded expeditionary Department of Defense (DoD) mission (total increase of 13 aircraft); (3) Construct and renovate facilities at Ault Field over a three-year period to accommodate additional aircraft; and (4) Station up to 860 additional personnel at and relocate approximately 2,150 family members to NAS Whidbey Island and surrounding community.

The purpose of the proposed action is to sustain the Navy's electronic attack aircraft capabilities at NAS Whidbey Island. The proposed action is needed to maintain electronic attack operational readiness to support national defense requirements under Title 10 United States Code Part 5062. The VAQ community of personnel, aircraft, equipment and mission related Navy functions have been performed almost entirely at NAS Whidbey Island since 1971. With the disestablishment of U.S. Marine Corps capabilities, the DoD Expeditionary VAQ mission is single-sited at NAS Whidbey Island which maximizes operational capabilities and efficiencies without duplicating facilities and functions at another location.

In addition to the No Action Alternative, this EIS will assess the potential environmental effects of action alternatives to be developed by DoN for different operational scenarios.

The environmental analysis in the EIS will focus on several aspects of the proposed action: Aircraft operations at Ault Field and OLF Coupeville; facility construction; and personnel changes. Resource areas to be addressed in the EIS will include, but not be limited to: Air quality, noise, land use, socioeconomics, natural resources, biological resources, cultural resources, and safety and environmental hazards. The analysis will evaluate direct and indirect impacts, and will account for cumulative impacts from other relevant activities near the installation. Relevant and reasonable measures that could avoid or mitigate environmental effects will also be analyzed. Additionally, the DoN will undertake any consultation applicable by law and regulation. No decision will be made to implement any alternative until the EIS process is completed and a Record of Decision is signed by the Assistant Secretary of the Navy (Energy, Installations and Environment) or designee.

The scoping process will be used to identify community concerns and local issues to be addressed in the EIS. Federal agencies, state agencies, local agencies, Native American Indian Tribes and Nations, the public, and interested persons are encouraged to provide comments to the DoN to identify specific issues or topics of environmental concern that the commenter believes the DoN should consider. All comments provided orally or in writing at the scoping meetings or by mail during the scoping period will receive the same consideration during EIS preparation. All comments must be postmarked no later than January 3, 2014.

To be included on the DoN's mailing list for the EIS (or to receive a copy of the Draft EIS, when released), a written request should be submitted to: EA-18G EIS Project Manager (Code EV21/SS); Naval Facilities Engineering Command (NAVFAC) Atlantic, 6506 Hampton Blvd., Norfolk, VA 23508.

August 29, 2013.
P.A. Richelmi,
Lieutenant, Office of the Judge Advocate General, U. S. Navy, Alternate Federal Register Liaison Officer.

[FR Doc. 2013-21483 Filed 9-4-13; 8:45 am]

BILLING CODE 3810-FF-P